DEPARTMENT OF AGRICULTURE

Animal and Plant Health Inspection Service

[Docket No. APHIS-2008-0062]

Availability of Site-Specific Environmental Assessment, Pest Risk Assessment, and Finding of No Significant Impact for the Interstate Movement of Garbage From Hawaii to Oregon

AGENCY: Animal and Plant Health Inspection Service, USDA.

ACTION: Notice.

SUMMARY: We are advising the public that a site-specific environmental assessment, pest risk assessment, and finding of no significant impact have been prepared by the Animal and Plant Health Inspection Service relative to a request to allow the interstate movement of garbage from Hawaii to a landfill in the State of Oregon. The environmental analysis has been prepared to determine whether the request is consistent with the environmental effects and impacts analyzed in our February 2008 regional programmatic environmental assessment. The pest risk assessment evaluates the risks associated with the interstate movement of garbage from Hawaii to Oregon. Based on the finding of no significant impact, the Animal and Plant Health Inspection Service has determined that an environmental impact statement need not be prepared.

FOR FURTHER INFORMATION CONTACT: Ms. Shannon Hamm, Associate Deputy Administrator, Policy and Program Development, APHIS, 4700 River Road Unit 20, Riverdale, MD 20737-1231; (301) 734-4957.

SUPPLEMENTARY INFORMATION:

Background

The importation and interstate movement of garbage is regulated by the Animal and Plant Health Inspection Service (APHIS) under 7 CFR 330.400 and 9 CFR 94.5 in order to protect against the introduction into and dissemination within the United States of plant and animal pests and diseases.

On March 13, 2008, we published in the Federal Register (73 FR 13525, Docket No. APHIS-2007-0070) a notice in which we announced the availability, for public review and comment, of a regional programmatic environmental assessment relative to the interstate movement of municipal solid waste from Hawaii to landfills in the States of Idaho, Oregon, and Washington. On June 18, 2008 (73 FR 34700-34701, Docket No. APHIS-2007-0070), we published a followup notice in which we announced the availability of our final regional programmatic environmental assessment and finding of no significant impact.

In our March 2008 notice, we stated that as new requests to move municipal solid waste from Hawaii are received, a specific environmental analysis will be prepared relative to each request to determine whether the request is consistent with the environmental effects and impacts analyzed in our regional programmatic environmental assessment. We also stated that the specific environmental analyses prepared for each new request to move municipal solid waste will be made available for a 30-day public comment period, after which APHIS will announce its environmental and pest risk decision regarding the new municipal solid waste movement proposal.

In accordance with the process described in our March 2008 notice, on July 31, 2008, we published in the Federal Register (73 FR 44702-44703, Docket No. APHIS-2008-0062) a notice ¹ in which we announced the availability, for public review and comment, of a site-specific environmental assessment, titled “Site Specific Environmental Assessment for Off Island Transfer Proposal to Transport Municipal Solid Waste from Hawaii to Columbia Ridge Landfill,” and the accompanying pest risk assessment, titled “The Risk of Introducing Pests to Gilliam County, Oregon via Hawaiian Plastic-Baled Municipal Solid Waste” (June 2008).

¹ To view the notice, the site-specific environmental assessment, the pest risk assessment, and the finding of no significant impact, go to http://www.regulations.gov/fdmspublic/component/main?main=DocketDetail&d=APHIS-2008-0062.

We solicited comments on the environmental assessment and the pest risk assessment for 30 days ending September 2, 2008. We received six comments by that date. In response to these comments, we have prepared a comment summary and response document that is available for review on the Regulations.gov Web site (see footnote 1). No changes to the environmental assessment or pest risk assessment were determined to be necessary in response to these comments.

In this document, we are advising the public of our pest risk decision and finding of no significant impact regarding the interstate movement of garbage from Hawaii to a landfill in the State of Oregon. This decision is based upon the site-specific environmental assessment, titled “Site Specific Environmental Assessment for Off Island Transfer Proposal to Transport Municipal Solid Waste from Hawaii to Columbia Ridge Landfill,” and the accompanying pest risk assessment, titled “The Risk of Introducing Pests to Gilliam County, Oregon via Hawaiian Plastic-Baled Municipal Solid Waste” (June 2008).

The site-specific environmental assessment, pest risk assessment, and finding of no significant impact may be viewed on the Regulations.gov Web site (see footnote 1). Copies of the site-specific environmental assessment, pest risk assessment, and finding of no significant impact are also available for public inspection at USDA, room 1141, South Building, 14th Street and Independence Avenue SW., Washington, DC, between 8 a.m. and 4:30 p.m., Monday through Friday, except holidays. Persons wishing to inspect copies are requested to call ahead at (202) 690-2817 to facilitate entry into the reading room. You may request paper copies of the site-specific environmental assessment, pest risk assessment, and the finding of no significant impact by calling or writing to the person listed under FOR FURTHER INFORMATION CONTACT. Please refer to the title of the document(s) you wish to receive when requesting copies.

The environmental assessment and finding of no significant impact have been prepared in accordance with: (1) The National Environmental Policy Act of 1969 (NEPA), as amended (42 U.S.C. 4321 et seq. ), (2) regulations of the Council on Environmental Quality for implementing the procedural provisions of NEPA (40 CFR parts 1500-1508), (3) USDA regulations implementing NEPA (7 CFR part 1), and (4) APHIS's NEPA Implementing Procedures (7 CFR part 372).

Done in Washington, DC, this 30th day of December 2008.
Kevin Shea,
Acting Administrator, Animal and Plant Health Inspection Service.

[FR Doc. E8-31457 Filed 1-5-09; 8:45 am]

BILLING CODE 3410-34-P